NATIONAL SCIENCE FOUNDATION

Advisory Committee for Computer and Information Science and Engineering; Notice of Meeting

In accordance with the Federal Advisory Committee Act (Pub. L. 92-463, as amended), the National Science Foundation announces the following meeting:

Name: Advisory Committee for Computer and Information Science and Engineering—(1115).

Date and Time: October 17, 2008, 8:30 a.m.-5 p.m. (EDT).

Place: The National Science Foundation, 4201 Wilson Blvd., Room 1235, Arlington, VA 22230.

Type of Meeting: Open.

Contact Person: Maggie Whiteman, Office of the Assistant Director, Directorate for Computer and Information Science and Engineering, National Science Foundation, 4201 Wilson Blvd., Suite 1105, Arlington, VA 22230. Telephone: (703) 292-8900.

Minutes: May be obtained from the contact person listed above.

Purpose of Meeting: To discuss strategic priorities in computing. To advise NSF on the impact of its policies, programs and activities on the CISE community. To provide advice to the Assistant Director/CISE on issues related to long-range planning, and to form ad hoc subcommittees to carry out needed studies and tasks.

Reason for Late Notice: Due to administrative complications and scheduling issues. However, there is necessity to proceed with this meeting at this time.

Agenda: Report from the Assistant Director. Discussion of research, education, diversity, workforce issues in IT and long-range funding outlook.

Dated: October 8, 2008.
Susanne Bolton,
Committee Management Officer.

[FR Doc. E8-24243 Filed 10-10-08; 8:45 am]

BILLING CODE 7555-01-P